DEPARTMENT OF EDUCATION

Extension of the Application Deadline Date; Applications for New Awards; Centers of Excellence for Veteran Student Success Program

AGENCY: Office of Postsecondary Education, Department of Education.

ACTION: Notice.

SUMMARY: On May 28, 2024, we published in the Federal Register a notice inviting applications (NIA) for the fiscal year (FY) 2024 Centers of Excellence for Veteran Student Success (CEVSS) Program, Assistance Listing Number 84.116G. The NIA established a deadline date of July 29, 2024, for the transmittal of applications. For eligible applicants located in counties in Texas that are covered by a major disaster declaration issued by the President, this notice extends the deadline date for transmittal of applications until Monday, August 5, 2024, and extends the date of intergovernmental review until October 4, 2024.

DATES:

Deadline for Transmittal of Applications: August 5, 2024.

Deadline for Intergovernmental Review: October 4, 2024.

FOR FURTHER INFORMATION CONTACT: Kelly Harris. Telephone: (202) 453-7346. Email: Kelly.Harris@ed.gov.

If you are deaf, hard of hearing, or have a speech disability and wish to access telecommunications relay services, please dial 7-1-1.

SUPPLEMENTARY INFORMATION: On May 28, 2024, we published the NIA in the Federal Register (89 FR 46098). Under the NIA, applications are due on July 29, 2024. We are extending the deadline for transmittal of applications for affected applicants (as defined under Eligibility) to allow these applicants more time—until August 5, 2024—to prepare and submit their applications.

Eligibility: The application deadline extension applies only to eligible applicants under the FY 2024 CEVSS Program competition that are affected applicants. An eligible applicant for this competition is defined in the NIA. To qualify as an affected applicant, the applicant must have a mailing address that is located in the federally declared disaster area and must provide appropriate supporting documentation, if requested.

The applicable federally declared disaster area under this declaration is the area in which assistance to individuals or public assistance has been authorized under FEMA's disaster declaration for Texas Hurricane Beryl DR-4798-TX. See the disaster declaration available at https://www.fema.gov/disaster/4798.

Affected applicants that have already timely submitted applications under the FY 2024 CEVSS Program competition may resubmit applications on or before the extended application deadline of August 5, 2024, but are not required to do so. If a new application is not submitted, the Department will use the application that was submitted by the original deadline. If a new application is submitted, the Department will consider the application that is last submitted and timely received by 11:59:59 p.m., Eastern Time, on August 5, 2024.

Any application submitted by an affected applicant under the extended deadline must contain evidence (e.g., the applicant organization mailing address) that the applicant is located in the applicable federally declared disaster area and, if requested, the applicant must provide appropriate supporting documentation.

The application period is not extended for all applicants. Applications from applicants that are not affected, as defined above, will not be accepted past the original July 29, 2024 deadline.

Note: All information in the NIA for this competition remains the same, except for the deadline for the transmittal of applications for affected applicants and the deadline for intergovernmental review.

Program Authority: 20 U.S.C. 1161t; 20 U.S.C. 1138-1138d; and the explanatory statement accompanying Division D of the Further Consolidated Appropriations Act, 2024 (Pub. L. 118-47).

Accessible Format: On request to the program contact person listed under FOR FURTHER INFORMATION CONTACT, individuals with disabilities can obtain this notice, the NIA, and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Nasser Paydar,
Assistant Secretary for Postsecondary Education.

[FR Doc. 2024-16376 Filed 7-24-24; 8:45 am]

BILLING CODE 4000-01-P